CONSUMER PRODUCT SAFETY COMMISSION

Sunshine Act Meetings

Time and Date: Wednesday, December 2, 2009, 2-4 p.m.

Place: Hearing Room 420, Bethesda Towers, 4330 East West Highway, Bethesda, Maryland.

Status: Closed to the Public.

Matter to be Considered:

Compliance Weekly Report—Commission Briefing

The staff will brief the Commission on various compliance matters. For a recorded message containing the latest agenda information, call (301) 504-7948.

FOR FURTHER INFORMATION CONTACT: Todd A. Stevenson, Office of the Secretary, U.S. Consumer Product Safety Commission, 4330 East West Highway, Bethesda, MD 20814, (301) 504-7923.

Dated: November 24, 2009.
Todd A. Stevenson,
Secretary.

[FR Doc. E9-28663 Filed 11-30-09; 8:45 am]

BILLING CODE 6355-01-M